EXPORT-IMPORT BANK

Request for Applications: 2022-2023 EXIM Advisory Committees and Councils

The Export-Import Bank of the United States (EXIM) is accepting applications for the 2022-2023 EXIM Advisory Committee, Sub-Saharan Africa Advisory Committee, Council on Climate, Council on China Competition, Council on Small Business, and Council on Advancing Women in Business from June 1-June 30, 2022.

Candidates wishing to be considered for membership must submit an online questionnaire https://www.exim.gov/form/advisory-committee-candidate-que and email the following to advisory@exim.gov:

• Biography

• Headshot

• Letter of interest demonstrating relevant knowledge, experience, and qualifications

Completed application materials must be submitted by 5:30 p.m. EDT, June 30, 2022.

Advisory Committee

The Advisory Committee provides guidance to EXIM on its policies and programs, in particular on the extent to which EXIM provides competitive financing to support American jobs through exports.

Sub-Saharan Africa Advisory Committee

The Sub-Saharan Africa Advisory Committee provides advice on EXIM policies and programs designed to support the expansion of financing support for U.S. manufactured goods and services in Sub-Saharan Africa.

Council on Climate

The Council on Climate advises how EXIM can further support U.S. exporters and American jobs in clean energy and meet congressional mandates to support and promote environmentally beneficial renewable energy, energy efficiency, and energy storage exports.

Council on China Competition

The Council on China Competition offers guidance on advancing the comparative leadership of the United States with respect to China and supporting U.S. innovation and employment through competitive export finance.

Council on Small Business

The Council on Small Business provides recommendations to help more American small business exporters find new markets, achieve more sales, and lower the risk of selling internationally.

Council on Advancing Women in Business

The Council on Advancing Women in Business advises how EXIM can reach more women business leaders and owners and better consider equity goals set in the agency's strategy.

For more information about applying for membership to any of the committees, please contact India Walker, External Engagement Specialist, at india.walker@exim.gov or at 202-480-0062.

Joyce B. Stone,
Assistant Corporate Secretary.

[FR Doc. 2022-11804 Filed 6-1-22; 8:45 am]

BILLING CODE 6690-01-P